DEPARTMENT OF HOUSING AND URBAN DEVELPOMENT

[Docket No. FR-5832-N-03]

60-Day Notice of Proposed Information Collection: Consolidated Plan, Annual Action Plan & Annual Performance Report

AGENCY: Office of Community Planning and Development, HUD.

ACTION: Notice.

SUMMARY: HUD is seeking approval from the Office of Management and Budget (OMB) for the information collection described below. In accordance with the Paperwork Reduction Act, HUD is requesting comment from all interested parties on the proposed collection of information. The purpose of this notice is to allow for 60 days of public comment.

DATES: Comments Due Date: May 8, 2015.

ADDRESSES: Interested persons are invited to submit comments regarding this proposal. Comments should refer to the proposal by name and/or OMB Control Number and should be sent to Colette Pollard, Reports Management Officer, QDAM, Department of Housing and Urban Development, 451 7th Street SW., Room 4176, Washington, DC 20410-5000; telephone 202-402-3400 (this is not a toll-free number) or email at Colette.Pollard@hud.gov for a copy of the proposed forms or other available information. Persons with hearing or speech impairments may access this number through TTY by calling the toll-free Federal Relay Service at (800) 877-8339.

FOR FURTHER INFORMATION CONTACT: Meg Barclay, Office of Block Grant Assistance, Department of Housing and Urban Development, 451 7th Street SW., Washington, DC 20410, telephone (202) 402-3669. This is not a toll-free number. Persons with hearing or speech impairments may access this number through TTY by calling the toll-free Federal Relay Service at (800) 877-8339.

Copies of available documents submitted to OMB may be obtained from Ms. Pollard.

SUPPLEMENTARY INFORMATION: This notice informs the public that HUD is seeking approval from OMB for the information collection described in Section A.

A. Overview of Information Collection

Title of Information Collection: Consolidated Plan & Annual Performance Report.

OMB Approval Number: 2506-0117.

Type of Request: Extension.

Agency Form Number: N/A.

Description of the need for the information and proposed use: The Departments collection of this information is in compliance with statutory provisions of the Cranston Gonzalez National Affordable Housing Act of 1990 that requires participating jurisdictions to submit a Comprehensive Housing Affordability Strategy (section 105(b)); the 1974 Housing and Community Development Act, as amended, that requires states and localities to submit a Community Development Plan (section 104(b)(4) and section 104(m)); and statutory provisions of these Acts that requires states and localities to submit applications and reports for these formula grant programs. The information is needed to provide HUD with preliminary assessment as to the statutory and regulatory eligibility of proposed grantee projects for informing citizens of intended uses of program funds.

Members of the Affected Public: States and local governments participating in the Community Development Block Grant Program (CDBG), the Home investment Partnership Program (HOME), the Emergency Solutions Grants Program (ESG) or the Housing Opportunities for Persons with AIDS/HIV Program (HOPWA).

Estimated Number of Respondents: 1,197 localities and 50 states.

Estimated Number of Responses: 2,394 localities, 100 states *.

Average Hours Per Response: 210 localities, 610 states.

Total Estimated Burdens: 393,327 **.

* Includes combined Consolidated Plan and Annual Action Plan and separate performance report.

** includes hours for 100 localities to submit abbreviated plans.

B. Solicitation of Public Comment

This notice is soliciting comments from members of the public and affected parties concerning the collection of information described in section A on the following:

(1) Whether the proposed collection of information is necessary for the proper performance of the functions of the agency, including whether the information will have practical utility;

(2) The accuracy of the agency's estimate of the burden of the proposed collection of information;

(3) Ways to enhance the quality, utility, and clarity of the information to be collected; and

(4) Ways to minimize the burden of the collection of information on those who are to respond; including through the use of appropriate automated collection techniques or other forms of information technology, e.g., permitting electronic submission of responses.

HUD encourages interested parties to submit comment in response to these questions.

Authority: Section 3507 of the Paperwork Reduction Act of 1995, 44 U.S.C. chapter 35.

Dated: March 3, 2015.
Clifford Taffet,
General Deputy Assistant Secretary for Community Planning and Development.

[FR Doc. 2015-05464 Filed 3-6-15; 8:45 am]

BILLING CODE 4210-67-P